DEPARTMENT OF COMMERCE

International Trade Administration

[A-580-874]

Certain Steel Nails From the Republic of Korea: Final Results of Antidumping Duty Administrative Review; 2022-2023

AGENCY: Enforcement and Compliance, International Trade Administration, Department of Commerce.

SUMMARY: The U.S. Department of Commerce (Commerce) finds that certain producers/exporters of certain steel nails (steel nails) from the Republic of Korea (Korea) subject to this administrative review made sales of subject merchandise at less than normal value during the period of review (POR), July 1, 2022, through June 30, 2023.

DATES: Applicable May 14, 2025.

FOR FURTHER INFORMATION CONTACT: Ian Riggs, AD/CVD Operations, Office IX, Enforcement and Compliance, International Trade Administration, U.S. Department of Commerce, 1401 Constitution Avenue NW, Washington, DC 20230; telephone: (202) 482-3810.

SUPPLEMENTARY INFORMATION:

Background

On August 12, 2024, Commerce published the Preliminary Results and invited interested parties to comment.¹ On November 25, 2024, we extended the deadline for these final results to no later than February 7, 2025.² On December 9, 2024, Commerce tolled certain deadlines in this administrative proceeding by 90 days.³ The deadline for these final results is now May 8, 2025. For a complete description of the events that followed the Preliminary Results, see the Issues and Decision Memorandum.⁴ Commerce conducted this administrative review in accordance with section 751(a) of the Tariff Act of 1930, as amended (the Act).

¹ See Certain Steel Nails from the Republic of Korea: Preliminary Results of Antidumping Duty Administrative Review; 2022-2023, 89 FR 65588 (August 12, 2024) (Preliminary Results), and accompanying Preliminary Decision Memorandum.

² See Memorandum, “Extension of Deadline for Final Results of 2022-2023 Antidumping Duty Administrative Review,” dated November 25, 2024.

³ See Memorandum, “Tolling of Deadlines for Antidumping and Countervailing Duty Proceedings,” dated December 9, 2024.

⁴ See Memorandum, “Issues and Decision Memorandum for the Final Results of the 2022-2023 Administrative Review of the Antidumping Duty Order on Certain Steel Nails from the Republic of Korea,” dated concurrently with, and hereby adopted by, this notice (Issues and Decision Memorandum).

Scope of the Order ⁵

⁵ See Certain Steel Nails from the Republic of Korea, Malaysia, the Sultanate of Oman, Taiwan, and the Socialist Republic of Vietnam: Antidumping Duty Orders, 80 FR 39994 (July 13, 2015) (Order).

The product covered by the Order is steel nails from Korea. For a complete description of the scope of the Order, see the Issues and Decision Memorandum.

Analysis of the Comments Received

All issues raised in the case and rebuttal briefs are addressed in the Issues and Decision Memorandum. A list of the issues addressed is attached as an appendix to this notice. The Issues and Decision Memorandum is a public document and is on file electronically via Enforcement and Compliance's Antidumping and Countervailing Duty Centralized Electronic System (ACCESS). ACCESS is available to registered users at https://access.trade.gov. In addition, a complete version of the Issues and Decision Memorandum can be accessed directly at https://access.trade.gov/public/FRNoticesListLayout.aspx.

Changes Since the Preliminary Results

Based on comments received from interested parties, we made certain changes to the margin calculations for Korea Wire Co., Ltd. (KOWIRE) and Nailtech Co., Ltd. (Nailtech) from the Preliminary Results.⁶

⁶ For a full description of changes, see Issues and Decision Memorandum.

Rate for Respondents Not Selected for Individual Examination

Generally, Commerce looks to section 735(c)(5) of the Act, which provides instructions for calculating the all-others rate in an investigation, for guidance when calculating the weighted-average dumping margin for respondents that were not individually examined in an administrative review. Section 735(c)(5)(A) of the Act provides that the all-others rate should be calculated by weight averaging the weighted-average dumping margins determined for individually examined respondents, excluding rates that are zero, de minimis, or based entirely on facts available.

We calculated a weighted-average dumping margin of zero for one of the two mandatory respondents, KOWIRE. Therefore, we have assigned a dumping margin to the companies not selected for individual examination in this review based on the rate calculated for the other mandatory respondent, Nailtech. See Appendix II.

Final Results of Review

As a result of this review, we determine that the following estimated weighted-average dumping margins exist for the period July 1, 2022, through June 30, 2023:

⁷ See Appendix II.

Producer/exporter | Weighted- average dumping margin (percent)
Korea Wire Co., Ltd | 0.00
Nailtech Co., Ltd | 2.34
Companies Not Selected for Individual Examination ⁷ | 2.34

Disclosure

Commerce intends to disclose to interested parties the calculations performed for these final results of review within five days of any public announcement or, if there is no public announcement, within five date of the date of publication of this notice in the Federal Register, in accordance with 19 CFR 351.224(b).

Assessment Rates

Pursuant to section 751(a)(2)(C) of the Act and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

Nailtech did not report the actual entered value for its U.S. sales; thus, we calculated importer-specific per-unit duty assessment rates by aggregating the total amount of antidumping duties calculated for the examined sales and dividing this amount by the total quantity of those sales. Where an importer-specific ad valorem assessment rate is zero or de minimis, or a respondent's weighted-average dumping margin is zero or de minimis, Commerce will instruct CBP to liquidate appropriate entries without regard to antidumping duties.⁸

⁸ See 19 CFR 351.212(c)(2).

Commerce's “automatic assessment” practice will apply to entries of subject merchandise during the POR produced by KOWIRE or Nailtech for which the reviewed companies did not know that the merchandise they sold to the intermediary (i.e., a reseller, trading company, or exporter) was destined for the United States.⁹ In such instances, we will instruct CBP to liquidate unreviewed entries at the all-others rate if there is no rate for the intermediate company(ies) involved in the transaction.¹⁰

⁹ For a full discussion of this practice, see Antidumping and Countervailing Duty Proceedings: Assessment of Antidumping Duties, 68 FR 23954 (May 6, 2003).

¹⁰ See Order, 80 FR at 39996.

Finally, for the companies not selected for individual examination, we will assign an assessment rate based on the review-specific rate, calculated as noted in the “Rate for Respondents Not Selected for Individual Examination” section, above.¹¹

¹¹ See section 735(c)(5)(A) of the Act.

Cash Deposit Instructions

The following cash deposit requirements will be effective for all shipments of the subject merchandise entered, or withdrawn from warehouse, for consumption on, or after, the date of publication of this notice in the Federal Register, as provided for by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for previously investigated or reviewed companies not covered in this review, the cash deposit rate will continue to be the company-specific cash deposit rate published for the most recently completed segment of this proceeding in which the company participated; (3) if the exporter is not a firm covered in this review, a prior review, or the less-than-fair-value (LTFV) investigation, but the manufacturer is, then the cash deposit rate will be the rate established for the most recent segment for the manufacturer of the merchandise; and (4) the cash deposit rate for all other manufacturers or exporters will continue to be 11.80 percent, the all-others rate established in the LTFV investigation.¹² These cash deposit requirements, when imposed, shall remain in effect until further notice.

¹² See Order, 80 FR at 39996.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification of Interested Parties

This notice is issued and published in accordance with sections 751(a)(1) and 777(i)(1) of the Act.

Dated: May 8, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Changes Since the Preliminary Results

IV. Scope of the Order

V. Discussion of the Issues

Comment 1: KOWIRE's Weight Basis

Comment 2: KOWIRE's Cost Data

Comment 3: KOWIRE's and Nailtech's Scrap Offsets

Comment 4: Errors in Nailtech's Comparison Market Program

Comment 5: Nailtech's Reported Price Components

Comment 6: Nailtech's Reported Costs

VI. Recommendation

Appendix II

Companies Not Selected for Individual Examination

1. Daejin Steel Company

2. Hanmi Staple Co., Ltd.

3. Je-il Wire Production Co., Ltd.

4. Koram Inc.

5. Youngwoo Fasteners Co., Ltd.

[FR Doc. 2025-08521 Filed 5-13-25; 8:45 am]

BILLING CODE 3510-DS-P